SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1-31, 2022

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f)

1. Chesapeake Appalachia, L.L.C.; Pad ID: PELTON UNIT PAD; ABR-202205001; Franklin Township, Bradford County, Pa.; Consumptive Use of Up to 2.5000 mgd; Approval Date: May 4, 2022.

2. Chesapeake Appalachia, L.L.C.; Pad ID: R & N; ABR-201203014.R2; Cherry Township, Sullivan County, Pa.; Consumptive Use of Up to 7.5000 mgd; Approval Date: May 12, 2022.

3. Chesapeake Appalachia, L.L.C.; Pad ID: Balduzzi; ABR-20100410.R2; Wyalusing Township, Bradford County, Pa.; Consumptive Use of Up to 7.50000 mgd; Approval Date: May 12, 2022.

4. Chesapeake Appalachia, L.L.C.; Pad ID: Blannard; ABR-20100414.R2; Standing Stone Township, Bradford County, Pa.; Consumptive Use of Up to 7.50000 mgd; Approval Date: May 12, 2022.

5. Chesapeake Appalachia, L.L.C.; Pad ID: Frisbee; ABR-20100413.R2; Orwell Township, Bradford County, Pa.; Consumptive Use of Up to 7.50000 mgd; Approval Date: May 12, 2022. .

6. SWN Production Company, LLC.; Pad ID: BIENKO; ABR-201203006.R2; New Milford and Jackson Townships, Susquehanna County, Pa.; Consumptive Use of Up to 4.9990 mgd; Approval Date: May 12, 2022.

7. Seneca Resources Company, LLC.; Pad ID: Dandois 482; ABR-20100517.R2; Sullivan Township, Tioga County, Pa.; Consumptive Use of Up to 4.0000 mgd; Approval Date: May 16, 2022.

8. SWN Production Company, LLC.; Pad ID: Conigliaro Pad; ABR-201204016.R2; New Milford Township, Susquehanna County, Pa.; Consumptive Use of Up to 4.9990 mgd; Approval Date: May 16, 2022.

9. SWN Production Company, LLC.; Pad ID: Warner Pad; ABR-201204024.R2; New Milford Township, Susquehanna County, Pa.; Consumptive Use of Up to 4.9990 mgd; Approval Date: May 16, 2022.

10. Coterra Energy Inc.; Pad ID: RoseC P1 ; ABR-20100407.R2; Dimock Township, Susquehanna County, Pa.; Consumptive Use of Up to 2.5000 mgd; Approval Date: May 16, 2022.

11. Range Resources—Appalachia, LLC; Pad ID: Cornwall South Unit; ABR-201504002.R1; Lewis Township, Lycoming County, Pa.; Consumptive Use of Up to 4.0000 mgd; Approval Date: May 16, 2022.

12. Chesapeake Appalachia, L.L.C.; Pad ID: Jack; ABR-20100511.R2; Windham Township, Bradford County, Pa.; Consumptive Use of Up to 7.5000 mgd; Approval Date: May 16, 2022.

13. Chesapeake Appalachia, L.L.C.; Pad ID: Verex; ABR-20100507.R2; Auburn Township, Susquehanna County, Pa.; Consumptive Use of Up to 7.5000 mgd; Approval Date: May 16, 2022.

14. Seneca Resources Company, LLC.; Pad ID: Newlin 476; ABR-20100503.R2; Charleston Township, Tioga County, Pa.; Consumptive Use of Up to 4.0000 mgd; Approval Date: May 16, 2022.

15. SWN Production Company, LLC.; Pad ID: Coyle Well Pad; ABR-201205006.R2; Liberty Township, Susquehanna County, Pa.; Consumptive Use of Up to 4.9990 mgd; Approval Date: May 16, 2022.

16. Chesapeake Appalachia, L.L.C..; Pad ID: Janet; ABR-20100526.R2; Monroe Township, Bradford County, Pa.; Consumptive Use of Up to 7.5000 mgd; Approval Date: May 29, 2022.

17. Coterra Energy, Inc.; Pad ID: HawleyW P1; ABR-20100521.R2; Dimock Township, Susquehanna County, Pa.; Consumptive Use of Up to 5.0000 mgd; Approval Date: May 29, 2022.

18. SWN Production Company, LLC; Pad ID: Barnhart Well Pad; ABR-201205005.R2; Liberty Township, Susquehanna County, Pa.; Consumptive Use of Up to 4.9990 mgd; Approval Date: May 29, 2022.

19. EXCO Resources (PA), LLC; Pad ID: Myers Drilling Pad #1; ABR-20100416.R2; Penn Township, Lycoming County, Pa.; Consumptive Use of Up to 2.0000 mgd; Approval Date: May 31, 2022.

20. EXCO Resources (PA), LLC; Pad ID: Emig Drilling Pad #1; ABR-20100452.R2; Cogan House Township, Lycoming County, Pa.; Consumptive Use of Up to 2.0000 mgd; Approval Date: May 31, 2022.

21. EXCO Resources (PA), LLC; Pad ID: Flook Drilling Pad #1; ABR-20100505.R2; Mifflin Township, Lycoming County, Pa.; Consumptive Use of Up to 2.0000 mgd; Approval Date: May 31, 2022.

22. Coterra Energy, Inc.; Pad ID: BunnellE P2; ABR-201205001.R1; Dimock Township, Susquehanna County, Pa.; Consumptive Use of Up to 5.0000 mgd; Approval Date: May 31, 2022.

23. Repsol Oil & Gas USA, LLC; Pad ID: VANBLARCOM (03 054) J; ABR-20100523.R2; Columbia Township, Bradford County, Pa.; Consumptive Use of Up to 6.0000 mgd; Approval Date: May 31, 2022.

24. Seneca Resources Company, LLC; Pad ID: COP Pad A; ABR-20100531.R2; Lawrence Township, Clinton County, Pa.; Consumptive Use of Up to 4.0000 mgd; Approval Date: May 31, 2022.

25. Chesapeake Appalachia, L.L.C.; Pad ID: Johnson; ABR-20100422.R2; Monroe Township, Bradford County, Pa.; Consumptive Use of Up to 7.5000 mgd; Approval Date: May 31, 2022.

26. Chesapeake Appalachia, L.L.C.; Pad ID: McGavin; ABR-20100435.R2; Auburn Township, Susquehanna County, Pa.; Consumptive Use of Up to 7.5000 mgd; Approval Date: May 31, 2022.

27. Chesapeake Appalachia, L.L.C.; Pad ID: Yoder; ABR-20100419.R2; West Burlington Township, Bradford County, Pa.; Consumptive Use of Up to 7.5000 mgd; Approval Date: May 31, 2022.

28. Chesapeake Appalachia, L.L.C.; Pad ID: Flash; ABR-20100540.R2; Rome Township, Bradford County, Pa.; Consumptive Use of Up to 7.5000 mgd; Approval Date: May 31, 2022.

29. Chesapeake Appalachia, L.L.C.; Pad ID: McGraw; ABR-20100537.R2; Washington Township, Wyoming County, Pa.; Consumptive Use of Up to 7.5000 mgd; Approval Date: May 31, 2022.

30. Chesapeake Appalachia, L.L.C.; Pad ID: Morse; ABR-20100528.R2; Leroy Township, Bradford County, Pa.; Consumptive Use of Up to 7.5000 mgd; Approval Date: May 31, 2022.

31. Chesapeake Appalachia, L.L.C.; Pad ID: Ambrosius Drilling Pad #1; ABR-201205004.R2; Wilmot Township, Bradford County, Pa.; Consumptive Use of Up to 2.0000 mgd; Approval Date: May 31, 2022.

32. Chesapeake Appalachia, L.L.C.; Pad ID: D & J Farms Drilling Pad #1; ABR-201204004.R2; Sheshequin Township, Bradford County, Pa.; Consumptive Use of Up to 2.0000 mgd; Approval Date: May 31, 2022.

33. Chesapeake Appalachia, L.L.C.; Pad ID: Yanavitch Drilling Pad #1; ABR-201204003.R2; Wilmot Township, Bradford County, Pa.; Consumptive Use of Up to 2.0000 mgd; Approval Date: May 31, 2022.

Authority: Public Law 91-575, 84 Stat. 1509 et seq., 18 CFR parts 806 and 808.

Dated: June 9, 2022.
Jason E. Oyler,
General Counsel and Secretary to the Commission.

[FR Doc. 2022-12772 Filed 6-13-22; 8:45 am]

BILLING CODE 7040-01-P